ENVIRONMENTAL PROTECTION AGENCY

[ER-FRL-6668-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in the Federal Register dated April 1, 2005 (70 FR 16815).

Draft EISs

EIS No. 20040468, ERP No. D-AFS-L65470-ID, Meadows Slope Wildland Fire Protection Project, Proposal to Create and Maintain a Fuelbreak of Reduced Crown Fire Hazard, Payette National Forest, New Meadows, Ranger District, Adams and Valley Counties, ID

Summary: EPA expressed environmental concerns about potential adverse effects of management activities on water quality, fish habitat and soil productivity. Rating EC2.

EIS No. 20050081, ERP No. D-AFS-L65477-OR, B&B Fire Recovery Project, Proposed Harvest of Fire-Killed Trees, Reduction of Fuels, Planting of Tree, Deschutes National Forest, Sister Ranger District, Jefferson and Deschutes Counties, OR

Summary: EPA expressed environmental concerns about the potential long term impacts of salvage logging to surface water quality, especially temperature, and aquatic habitat from increased sediment delivery to streams. Rating EC2.

EIS No. 20050250, ERP No. D-AFS-L65489-OR, Ashland Forest Resiliency Project, To Recover from Large-Scale High-Severity Wild Land Fire, Upper Bear Analysis Area, Ashland Ranger District, Rogue River-Siskiyou National Forest, Jackson County, OR

Summary: EPA expressed environmental concerns about the potential impacts of sediment delivery to streams that feed into the City of Ashland's drinking water supply, and potential impacts from large wood debris to streams within and downstream of the proposed project. Rating EC2.

EIS No. 20050297, ERP No. D-SFW-J65447-WY, Bison and Elk Management Plan, Implementation, National Elk Refuge/Grand Teton National Park/John D. Rocefeller, Jr. Memorial Parkway, Teton County, WY

Summary: EPA has no objection to the proposed action. Rating LO.

EIS No. 20050299, ERP No. D-SFW-K64026-CA, San Diego Bay National Wildlife Refuge Comprehensive Conservation Plan, Implementation, Sweetwater Marsh and South San Diego Units, San Diego, County, CA

Summary: EPA has no objection to the proposed action. Rating LO.

EIS No. 20050138, ERP No. DS-NIH-B81009-MA, National Emerging Infectious Disease Laboratories, Additional Information on Two Alternatives, Construction of National Biocontainment Laboratory, BioSquare Research Park, Boston University Medical Center Campus, Boston, MA

Summary: EPA expressed environmental concerns about the air quality, risk assessment, and environmental justice. Rating EC2.

FINAL EISs

EIS No. 20040271, ERP No. F-FHW-B40087-VT, VT 9/100 Transportation Improvement Study (NH-010-1(33), In the Towns of Wilmington and West Dover, Federal Permits and Approvals, NPDES Permit and COE Section 10 and 404 Permits. Windham County, VT

Summary: EPA continues to have environmental concerns about the analysis of vernal pool resources and indirect/cumulative wetland impacts.

EIS No. 20040502, ERP No. F-FHW-B40089-CT, CT-2/2A/32 Transportation Improvement Study, Construction, Funding, Coast Guard Bridge Permit, NPDES Permit, COE Section 10 and 404 Permit, New London County, CT

Summary: EPA continues to have environmental concerns about ground and surface water resources, impacts to wetlands and secondary impacts. However, EPA supports the selection of the preferred alternative.

EIS No. 20050191, ERP No. F-AFS-L65470-ID, Meadows Slope Wildland Fire Protection Project, Proposes to Create and Maintain a Fuelbreak of Reduced Crown Fire Hazard, Payette National Forest, New Meadows Rangers District, Adams and Valley Counties, ID

Summary: EPA continues to express environmental concern about water quality impacts associated with sediment in low gradient streams.

EIS No. 20050258, ERP No. F-AFS-L65477-OR, B&B Fire Recovery Project, Proposed Harvest of Fire-Killed Trees, Reduction of Fuels, Planting of Tree, Deschutes National Forest, Sisters Ranger District, Jefferson and Deschutes Counties, OR

Summary: EPA continued to have environmental concerns about the long term impacts of salvage logging to water quality and aquatic habitat from sediment delivery to streams.

EIS No. 20050307, ERP No. F-IBR-K64023-CA, Battle Creek Salmon and Steelhead Restoration Project, To Address New Significant Information, Habitat Restoration in Battle Creek and Tributaries, License Amendment Issuance, Implementation, Tehama and Shasta Counties, CA

Summary: EPA is supportive of efforts to restore salmonid habitat to facilitate population growth and recovery, and has no objection to the proposed action.

EIS No. 20050312, ERP No. F-NRC-B06005-CT, Generic-License Renewal of Nuclear Plants for the Millstone Power Station, Units 2 and 3, Supplement 22 to NUREG-1437, Implementation, New London County, CT

Summary: EPA continues to have environmental concerns about the entrainment and impingement of fish and other aquatic organisms, heat shock, and the assessment of cumulative environmental impacts.

EIS No. 20050326, ERP No. F-AFS-K65278-CA, Burlington Ridge Trails Project, To Eliminate, Reconstruct/or Reroute Unsound Trail Sections, Tahoe National Forest, Yuba River Ranger District, Camptonville, Nevada County, CA

Summary: No formal comment letter was sent to the preparing agency.

EIS No. 20050338, ERP No. F-FHW-F40428-OH, OH-823, Portsmouth Bypass Project, Transportation Improvements, Funding and U.S. Army COE Section 404 Permit, Appalachian Development Highway, Scioto County, OH

Summary: EPA continues to have environmental concerns about ecosystem fragmentation, forest losses, relocation impacts, and requested that these impacts be further mitigated.

EIS No. 20050345, ERP No. FS-BLM-K67038-NV, Ruby Hill Mine Expansion—East Archimedes Project, Extension of Existing Open Pit and Expansion of Two Existing Waste Rock Disposal Areas, Plan-of-Operations Permit, Eureka County, NV

Summary: EPA recommended that BLM analyze potential long-term heap leach draindown scenarios and include the full cost of long-term treatment in the reclamation/closure bond.

Dated: October 11, 2005.
Ken Mittelholtz,
Environmental Protection Specialist, Office of Federal Activities.

[FR Doc. 05-20615 Filed 10-13-05; 8:45 am]

BILLING CODE 6560-50-P